DEPARTMENT OF HEALTH AND HUMAN SERVICES

Office of the Secretary

Agency Information Collection Activities: Submission for OMB Review Comment Request

The Department of Health and Human services, Office of the Secretary publishes a list of information collections it has submitted to the Office of Management and Budget (OMB) for clearance in compliance with the Paperwork Reduction Act of 1995 (44 U.S.C. Chapter 35) and 5 CFR 1320.5. The following are those information collections recently submitted to OMB.

1. HHS Acquisition Regulations (HHSAR) Part 333: Disputes and Appeals—0990-0133—Extension—The Litigation and Claims clause is needed to inform the government of actions filed against government contracts—Respondents: State or local governments, businesses or other for-profit, non-profit institutions; Number of respondents: 80; Average burden per response: 30 minutes; Total annual burden: 40 hours.

2. HHS Acquisition Regulations (HHSAR) Part 370: Special Programs Affecting Acquisition—0990-0129—Extension—This section of the regulations establishes requirements for the accessibility of meetings, conferences and seminars to persons with disabilities; establishes requirements for Indian preference in employment, training and subcontracting opportunities—Burden Information for Accessibility—Number of Respondents: 310; Average Burden per Response: 10 hours; Total Accessibility Burden: 3,100 hours—Burden Information for Indian Preference—Number of Respondents: 932: Average Burden per Response: 8 hours; Total Indian Preference Burden: 7,456 hours—Total Burden: 10,566 hours.

3. HHS Acquisition Regulation (HHSAR) Part 352: Solicitation Provisions and Contract Clauses—0990-0130—Extension—The Key Personnel clause in HHSAR 352.270-5 is necessary for proper contract administration and the Publication and Publicity clause in HHSAR 352.270-6 is necessary to encourage publication of contract results.

Respondents: Businesses or other for-profit, non-profit institutions, State, local or Tribal governments—Burden Information for Key Personnel—Number of Respondents: 1501; Average Burden per Response: 2 hours; Burden for Key Personnel: 3002 hours—Burden Information for Publications—Number of Respondents: 1,501; Average Burden per Response: 2 hours; Total Burden Key Personnel—3,002 hours—Burden Information on Publication—Number of Respondents: 420; Average Burden per Response: 2 hours; Total Burden for Publications: 840 hours—Total Burden: 3,842 hours; OMB Desk Office: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC, 20201. Written comments should be received within 30 days of this notice.

Dated: November 14, 2002.
Kerry Weems,
Deputy Assistant Secretary, Budget.

[FR Doc. 02-29716 Filed 11-21-02; 8:45 am]

BILLING CODE 4151-17-M